DEPARTMENT OF JUSTICE

Notice of Lodging of Consent Decree Under the Comprehensive Environmental Response, Compensation and Liability Act

Under 28 CFR 50.7 notice is hereby given that on June 27, 2005, a proposed Consent Decree in United States v. Metal Masters Foodservice Equipment Company, Inc., Civil Action No. 05-430 was lodged with the United States District Court for the District of Delaware.

In this action the United States sought reimbursement of response costs incurred in connection with property known as the Tyler Site located at 655 Glenwood Avenue in Smyrna, Delaware. The Consent Decree provides that the defendant pay $100,000 to the EPA Hazardous Substance Superfund to resolve its liability in connection with its releases of hazardous substances at the Tyler Site.

The Department of Justice will receive for a period of thirty (30) days from the date of this publication comments relating to the Consent Decree. Comments should be addressed to the Assistant Attorney General, Environment and Natural Resources Division, PO Box 7611, U.S. Department of Justice, Washington, DC 20044-7611, and should refer to United States v. Metal Masters Foodservice Equipment Company, Inc., D.J. Ref. 90-11-3-06700.

The Consent Decree may be examined at the Office of the United States Attorney, District of Delaware, 1007 Orange Street, Suite 700, Wilmington, Delaware 19801, and at U.S. EPA Region III, 1650 Arch Street, Philadelphia, Pennsylvania 19103. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $68.50 (25 cents per page reproduction cost) payable to the U.S. Treasury. In requesting a copy exclusive of exhibits, please enclose a check in the amount of $5.75 (25 cents per page reproduction cost) payable to the U.S. Treasury.

Robert Brook,
Assistant Chief, Environmental Enforcement Section, Environment and Natural Resources Division.

[FR Doc. 05-13387 Filed 7-6-05; 8:45 am]

BILLING CODE 4410-15-M